ENVIRONMENTAL PROTECTION AGENCY

[ER-FRL-8993-1]

Environmental Impacts Statements; Notice of Availability

Responsible Agency: Office of Federal Activities, General Information (202) 564-1399 or http://www.epa.gov/compliance/nepa/.

Weekly receipt of Environmental Impact Statements

Filed 09/27/2010 through 10/01/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100389, Final EIS, USFS, OR, D-Bug Hazard Reduction Timber Sales Project, To Lessen the Fuel and Safety Hazards Associated With the On-Going Outbreak of Mountain Pine Beetles, Diamond Lake Ranger District, Umpqua National Forest, Douglas County, OR, Wait Period Ends: 11/08/2010, Contact: Joyce Thompson 541-957-3457.

This document is available on the Internet at: http://www.fs.fed.us/r6/umpqua/projects/projectdocs/d-bug-ts/index.shtml.

EIS No. 20100390, Draft EIS, NSF, 00, Programmatic—Marine Seismic Research Funded by the National Science Foundation or Conducted by the U.S. Geological Survey, To Fund the Investigation of the Geology and Geophysics of the Seafloor by Collecting Seismic Reflection and Refraction Data, Across the World's Ocean, Comment Period Ends: 11/22/2010, Contact: Holly Smith 703-292-8593.

This document is available on the Internet at http://www.nsf.gov/geo/oce/envcomp/index.jsp.

EIS No. 20100391, Final EIS, USACE, NC, Surf City and North Topsail Beach Project, To Evaluate Coastal Storm Damage Reduction, Topsail Island, Pender and Onslow Counties, NC, Wait Period Ends: 11/22/2010, Contact: Doug Piatkowski 910-251-4908.

EIS No. 20100392, Draft EIS, BR, CA, Nimbus Hatchery Fish Passage Project, To Create and Maintain a Reliable System for Collecting Adult Fish to Allow Reclamation, Rancho Cordova, Gold River, CA, Comment Period Ends: 11/30/2010, Contact: David Robinson 916-989-7179.

EIS No. 20100393, Final EIS, DOE, WA, Cushman Hydroelectric Project (FERC No. 0456), Design and Construction of New 3.6-MW Powerhouse on the North Fork of the Skokomish River, Mason County, WA, Wait Period Ends: 11/08/2010, Contact: Jane Summerson 202-340-9626.

EIS No. 20100394, Draft EIS, FHWA, NC, NC-109 Corridor Improvement Study, From Old Greensboro Road (NC-1798) to I-40/US 311, Davidson and Forsyth Counties, NC, Comment Period Ends: 11/22/2010, Contact: Vince Rhea 919-733-7844.

EIS No. 20100395, Final EIS, USACE, LA, Convey Atchafalaya River Water to Northern Terrebonne Marshes and Multipurpose Operation of Houma Navigation Lock, Integrated Feasibility Study, Louisiana Coastal Area (LCA) Implementation, Lafourche, Terrebonne, St. Mary Parish, LA, Wait Period Ends: 11/08/2010, Contact: Dr. Nathan Dayan 504-862-2530.

EIS No. 20100396, Final EIS, USACE, LA, Louisiana Coastal Area (LCA)—Louisiana, Terrebonne Basin Barrier Shoreline Restoration, Feasibility Study, Implementation. Terrebonne Parish, LA, Wait Period Ends: 11/08/2010, Contact: Dr. William P. Klein, Jr. 504-862-2540.

EIS No. 20100397, Final EIS, USACE, LA, Small Diversion at Convent/Blind River, Proposes to construct a Freshwater Diversion Project, Integrated Feasibility Study, Louisiana Coastal Area, St. James Parish, LA, Wait Period Ends: 11/08/2010, Contact: Dr. William P. Klein, Jr. 504-862-2540.

EIS No. 20100398, Final EIS, USACE, LA, Medium Diversion at White Ditch, Integrated Feasibility Study, Louisiana Coastal Area (LCA) Ecosystem Restoration, Implementation, Plaquemines Parish, LA, Wait Period Ends: 11/08/2010, Contact: Dr. Nathan Dayan 504-862-2530.

EIS No. 20100399, Final EIS, USACE, LA, Amite River Diversion Canal Modification Element of the Section 7006(E)(3) Ecosystem Restoration Project, Feasibility Study, Louisiana Coastal Area (LCA) Ascension and Livingston Parishes, LA, Wait Period Ends: 11/08/2010, Contact: Dr. William P. Klein, Jr. 504-862-2540.

Amended Notices

EIS No. 20100370, Final EIS, FHWA, WY, Jackson South Project, US/26/89/189/91 Improvements, Funding and Right-of-Way Approval, Teton County, WY, Wait Period Ends: 11/17/2010, Contact: Lee Potter 307-771-2946.

Revision to FR Notice Published 09/17/2010: Extending Comment Period from 10/18/2010 to 11/17/2010.

Dated: October 5, 2010.
Robert W. Hargrove,
Director, NEPA Compliance Division, Office of Federal Activities.

[FR Doc. 2010-25470 Filed 10-7-10; 8:45 am]

BILLING CODE 6560-50-P